AGENCY FOR INTERNATIONAL DEVELOPMENT

60-Day Notice of public information collections

AGENCY: U.S. Agency for International Development.

ACTION: Notice of public information collections.

SUMMARY: The U.S. Agency for International Development (USAID) seeks Office of Management and Budget (OMB) approval to continue the information collections described below. In accordance with the Paperwork Reduction Act for 1995, USAID requests public comment on these collections from all interested individuals and organizations. The purpose of this notice is to allow 60 days for public comment preceding submission of the collections to OMB. Comments are requested concerning: (a) Whether the collections of information are necessary for the proper performance of the functions of the agency, including whether the information shall have practical utility; (b) the accuracy of the burden estimates; (c) ways to enhance the quality, utility, and clarity of the information collected; and (d) ways to minimize the burden of the collection of information on the respondents, including through the use of automated collection techniques or other forms of information technology.

DATES: Submit comments on or before August 23, 2021.

ADDRESSES: You may submit comments by any of the following methods:

1. Web: Through the Federal eRulemaking Portal at http://www.regulations.gov by following the instructions for submitting comments.

2. Email: policymailbox@usaid.gov.

FOR FURTHER INFORMATION CONTACT: Jacqueline Taylor, at (202) 916-2628 or via email at policymailbox@usaid.gov.

SUPPLEMENTARY INFORMATION: OMB No: 0412-0579.

Form No.: AID 309-2.

Title: Offeror Information for Personal Services Contracts With Individuals.

Type of Review: Renewal of a currently approved collection.

Purpose: United States Agency for International Development must collect information for reporting purposes to Congress and the Office of Acquisition and Assistance Contract Administration. This form will be used to collect information to determine the most qualified person for a position without gathering information that may lead to discrimination or bias towards or gathered from applicant.

Annual Reporting Burden:

U.S. Respondents: 12,600.

Total Annual U.S. Responses: 12,600.

Total Annual Hours Requested: 12,600 hours.

The burden estimate is based on the average number of PSC awards made over the past three years, which is 600. The average number of offerors received for each solicitation is 21. Therefore, the total number of offers received is 600 × 21=12,600. The amount of time estimated to complete the form is one hour.

The burden estimate is based on the average number of PSC awards made over the past three years, which is 600. The average number of offers received is 600. The average number of offers received for each solicitation is 21. Therefore, the total number of offers received is 600 × 21 = 12,600. The estimated time is based on the amount of time needed to read, provide employment information and experience needed to apply for a position. We estimate the annual cost to respondents to be about $652,932. The respondents are mostly individuals of various sources submitting offers for a position that average the salary of a GS13 step 5 which averages $51.82/hr.

Mark A. Walther,
Senior Procurement Executive.

[FR Doc. 2021-13271 Filed 6-23-21; 8:45 am]

BILLING CODE P